DEPARTMENT OF COMMERCE

Office of the Secretary

Membership of the Performance Review Board for the Office of the Secretary

AGENCY: Office of the Secretary, Department of Commerce.

ACTION: Notice of membership on the Office of the Secretary Performance Review Board.

SUMMARY: In accordance with 5 U.S.C. 4314(c)(4), the Office of the Secretary, Department of Commerce (DOC), announces the appointment of those individuals who have been selected to serve as members of the Performance Review Board. The Performance Review Board is responsible for (1) reviewing performance appraisals and ratings of Senior Executive Service (SES) and Senior Level (SL) members and (2) making recommendations to the appointing authority on other performance management issues, such as pay adjustments, bonuses and Presidential Rank Awards. The appointment of these members to the Performance Review Board will be for a period of twenty-four (24) months.

DATES: The period of appointment for those individuals selected for the Office of the Secretary Performance Review Board begins on October 3, 2016.

FOR FURTHER INFORMATION CONTACT: Nancy Osborn, U.S. Department of Commerce, Office of Human Resources Management, Office of Executive Resources, 14th and Constitution Avenue NW., Room 51010, Washington, DC 20230, at (202) 482-5815.

SUPPLEMENTARY INFORMATION: In accordance with 5 U.S.C. 4314(c)(4), the Office of the Secretary, Department of Commerce (DOC), announces the appointment of those individuals who have been selected to serve as members of the Office of the Secretary Performance Review Board. The Performance Review Board is responsible for (1) reviewing performance appraisals and ratings of Senior Executive Service (SES) and Senior Level (SL) members and (2) making recommendations to the appointing authority on other performance management issues, such as pay adjustments, bonuses and Presidential Rank Awards. The appointment of these members to the Performance Review Board will be for a period of twenty-four (24) months.

DATES: The period of appointment for those individuals selected for the Office of the Secretary Performance Review Board begins on October 3, 2016. The name, position title, and type of appointment of each member of the Performance Review Board are set forth below:

1. Gordon Alston, Director, Financial Reporting and Internal Controls, Career SES

2. Paige Atkins, Associate Administrator for Spectrum Management, Career SES

3. Kurt Bersani, Deputy Chief Financial and Administrative Officer, Career SES

4. Theodore LeCompte, Deputy Chief of Staff and Senior Advisor to the Secretary, Noncareer SES

5. Lauren Leonard, Director of the Office of White House Liaison and Senior Advisor to the Secretary, Noncareer SES

6. Catrina Purvis, Chief Privacy Officer and Director of Open Government, Career SES

7. Rodney Turk, Director of Cyber Security and Chief Information Security Officer, Career SES

Dated: September 20, 2016.
Denise A. Yaag,
Director, Office of Executive Resources, Office of Human Resources Management, Office of the Secretary/Office of the CFO/ASA, Department of Commerce.

[FR Doc. 2016-23655 Filed 9-30-16; 8:45 am]

BILLING CODE 3510-25-P